DEPARTMENT OF JUSTICE

Antitrust Division

Notice Pursuant to the National Cooperative Research and Production Act of 1993—Sematech, Inc. d/b/a International Sematech

Notice is hereby given that, on November 18, 2011, pursuant to section 6(a) of the National Cooperative Research and Production Act of 1993, 15 U.S.C. 4301 et seq. (“the Act”), Sematech, Inc. d/b/a International Sematech (“Sematech, Inc.”) has filed written notifications simultaneously with the Attorney General and the Federal Trade Commission disclosing changes in its membership. The notifications were filed for the purpose of extending the Act's provisions limiting the recovery of antitrust plaintiffs to actual damages under specified circumstances. Specifically, Aixtron SE, Herzogenrath, GERMANY; Applied Seals North America, Inc., Newark, CA; Tokyo OHKA Kogyo Co., Ltd., Kanagawa-ken, JAPAN; Core Wafer Systems, Inc., Albuquerque, NM; Dainippon Screen Manufacturing Co., Ltd., Kyoto, JAPAN; Soitec, Bernin, FRANCE; Macronix International Co., Ltd., Hsinchu, TAIWAN; Global Foundaries Inc., Milpitas, CA; Freescale Semiconductor, Inc., Austin, TX; Infineon Technologies AG, Munich, GERMANY; Qualcomm Incorporated, San Diego, CA; LSI Corporation, Milpitas, CA; Spansion Inc., Sunnyvale, CA; Advanced Micro Devices, Inc., Sunnyvale, CA; Cypress Semiconductor Corporation, San Jose, CA; NXP Semiconductors N.V., Eindhoven, THE NETHERLANDS; ON Semiconductor Corporation, Phoenix, AZ; and STMicroelectronics N.V., Geneva, SWITZERLAND, have been added as parties to this venture.

Also, Canon Anelva Corporation, Kanagawa, JAPAN; Lasertec Corporation, Yokohama, JAPAN; Nanosys Inc., Palo Alto, CA; and Rudolph Technologies Inc., Flanders, NJ, have withdrawn as parties to this venture.

International Sematech Manufacturing Initiative, Inc. (“ISMI”) has an additional membership category called council membership. ISMI offers and manages a number of councils which are forums for semiconductor industry managers to benchmark operations, share best practices, hear expert presentations, hold workshops on topics of interests, influence/supply chain, and network. These ISMI councils focus on wafer fab operations, procurement and logistics, quality and reliability, and final manufacturing.

No other changes have been made in either the membership or planned activity of the group research project. Membership in this group research project remains open, and Sematech, Inc. intends to file additional written notifications disclosing all changes in membership.

On April 22, 1988, Sematech, Inc. filed its original notification pursuant to Section 6(a) of the Act. The Department of Justice published a notice in the Federal Register pursuant to Section 6(b) of the Act on May 19, 1988 (53 FR 17987).

The last notification was filed with the Department on November 15, 2011. A notice was published in the Federal Register pursuant to Section 6(b) of the Act on August 4, 2011 (76 FR 70758).

Patricia A. Brink,
Director of Civil Enforcement, Antitrust Division.

[FR Doc. 2011-32697 Filed 12-20-11; 8:45 am]

BILLING CODE P